DEPARTMENT OF HOMELAND SECURITY

Office of the Secretary

[DHS-2006-0014]

Advisory Committee Candidate Biographical Information Request (DHS Form 0001-1)

AGENCY: Office of the Executive Secretariat, DHS.

ACTION: Notice and request for comment.

SUMMARY: The Department of Homeland Security (DHS) invites the general public and other federal agencies to comment on a new information collection request (ICR), DHS Advisory Committee Candidate Biographical Information Request Form (DHS Form 0001-1). As required by the Paperwork Reduction Act of 1995, (Pub. L. 104-13, 44 U.S.C. Chapter 35), DHS is soliciting comments for the new information collection request.

DATES: Written comments should be received on or before June 12, 2006. This process is conducted in accordance with 5 CFR 1320.10.

ADDRESSES: If you desire to submit comments, they must be submitted by June 12, 2006. Comments must be identified by Docket Number [DHS-2006-0014] and may be submitted by one of the following methods:

• Federal eRulemaking Portal: http://www.regulations.gov. Follow the instructions for submitting comments.

• Mail: Office of the Executive Secretariat, 245 Murray Lane, SW., Bldg. #410, Washington, DC 20528.

FOR FURTHER INFORMATION CONTACT: Georgia Abraham, 202-282-9150 (this is not a toll free number).

SUPPLEMENTARY INFORMATION: A copy of this Information Collection Request may be obtained by calling the contact listed above, or by visiting the docket on-line, as described below.

Description: The Advisory Committee Biographical Information Request provides persons who express an interest in serving on a DHS Advisory Committee the opportunity to request appointment to the committee by completing an application form (DHS Form 0001-1).

Public Participation

The Department of Homeland Security and the Office of Management and Budget are particularly interested in comments which:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Instructions

All submissions received must include the agency name and docket number [DHS-2006-0014] for this Information Collection Request. All comments received will be posted without change to http://www. regulations.gov, including any personal information provided.

Docket: For access to the docket to read background documents or comments received, go to http://www.regulations.gov.

Analysis

Agency: Department of Homeland Security, Office of the Executive Secretariat.

Title: Advisory Committee Candidate Biographical Information Request

OMB Control Number: 1601-NEW.

Frequency: On occasion.

Affected Public: Individuals or households.

Estimated Number of Respondents: 480.

Estimated Time Per Response: 15 minutes.

Total Burden Hours: 120.

Total Cost Burden: None.

Scott Charbo,
Chief Information Officer.

[FR Doc. E6-5349 Filed 4-11-06; 8:45 am]

BILLING CODE 4410-10-P